NUCLEAR REGULATORY COMMISSION

[Docket No. 50-528-OLA; ASLBP No. 03-804-01-OLA]

Arizona Public Service Company, Palo Verde Nuclear Generating Station, Unit 1; Establishment of Atomic Safety and Licensing Board

Pursuant to delegation by the Commission dated December 29, 1972, published in the Federal Register, 37 FR 28,710 (1972), and sections 2.105, 2.700, 2.702, 2.714, 2.714a, 2.717, 2.721, and 2.772(j) of the Commission's Regulations, all as amended, an Atomic Safety and Licensing Board is being established to preside over the following proceeding:

Arizona Public Service Company, Palo Verde Nuclear Generating Station, Unit 1.

This Board is being established pursuant to a notice of consideration of issuance of operating license amendment, proposed no significant hazards consideration determination, and opportunity for a hearing published in the Federal Register (67 FR 62,079 (Oct. 3, 2002)). The proceeding involves a petition for intervention submitted October 14, 2002, by the National Environmental Protection Center challenging a request by the Arizona Public Service Company to amend the operating license for the Palo Verde Nuclear Generating Station, Unit 1. The amendment would change a facility technical specification to revise the scope of the required inspection of the tube in the steam generator tubesheet region.

The Board is comprised of the following administrative judges:

Ann M. Young, Chair, Atomic Safety and Licensing Board Panel, U.S. Nuclear Regulatory Commission, Washington, DC 20555-0001.

Richard F. Cole, Atomic Safety and Licensing Board Panel, U.S. Nuclear Regulatory Commission, Washington, DC 20555-0001.

Thomas D. Murphy, Atomic Safety and Licensing Board Panel, U.S. Nuclear Regulatory Commission, Washington, DC 20555-0001.

All correspondence, documents, and other materials shall be filed with the administrative judges in accordance with 10 C.F.R. 2.701.

Issued at Rockville, Maryland, this 5th day of November, 2002.
G. Paul Bollwerk, III,
Chief Administrative Judge, Atomic Safety and Licensing Board Panel.

[FR Doc. 02-28671 Filed 11-8-02; 8:45 am]

BILLING CODE 7590-01-P